DEPARTMENT OF THE INTERIOR

National Park Service

[NPS-NER-BOHA-13708; PPMPSPD1Z.YM0000; PPNEBOHAS1]

Boston Harbor Islands Advisory Council Meeting

AGENCY: National Park Service, Interior.

ACTION: Notice of Meeting.

SUMMARY: This notice announces a meeting of the Boston Harbor Islands Advisory Council. The agenda includes discussion of 2016 celebration planning for the 300th Anniversary of Boston Light, 20th Anniversary of Boston Harbor Islands National Recreation Area (NRA), and Centennial of the National Park Service, and park updates including a review of the 2013 summer season.

DATES: September 11, 2013, 6:00 p.m. to 8:00 p.m. (Eastern).

Location: Partnership Office, 15 State Street, 8th Floor Conference Room, Boston, MA 02109.

FOR FURTHER INFORMATION CONTACT: Kelly Fellner, DFO, Boston Harbor Islands National Recreation Area, 15 State Street, Suite 1100, Boston, MA 02109; telephone (617) 223-8669; email: Kelly_Fellner@nps.gov.

SUPPLEMENTARY INFORMATION: This meeting open to the public. Those wishing to submit written comments may contact the Designated Federal Official (DFO) for the Boston Harbor Islands Advisory Council, Kelly Fellner, by mail at National Park Service, 15 State Street, Suite 1100, Boston, MA 02109. Before including your address, phone number, email address, or other personal identifying information in your comment, you should be aware that your entire comment—including your personal identifying information—may be made publicly available at any time. While you can ask us in your comment to withhold your personal identifying information from public review, we cannot guarantee that we will be able to do so.

The Advisory Council was appointed by the Director of the National Park Service pursuant to Public Law 104-333. The purpose of the Council is to advise and make recommendations to the Boston Harbor Islands Partnership with respect to the implementation of a management plan and park operations. Efforts have been made locally to ensure that the interested public is aware of the meeting dates.

Dated: August 20, 2013.
Shirley Sears,
Acting Chief, Office of Policy.

[FR Doc. 2013-20721 Filed 8-23-13; 8:45 am]

BILLING CODE 4310-WV-P